DEPARTMENT OF TRANSPORTATION

Federal Highway Administration

Rescinding the Notice of Intent To Prepare Environmental Impact Statement (EIS): Hawaii County, Hawaii

AGENCY: Federal Highway Administration (FHWA), DOT.

ACTION: Notice.

SUMMARY: The FHWA is issuing this notice to advise the public that it is rescinding its Notice of Intent (NOI) and will not be preparing an Environmental Impact Statement (EIS) for a proposed highway project in Hawaii County, Hawaii. A NOI to prepare an EIS was published in the Federal Register on March 18, 2014.

FOR FURTHER INFORMATION CONTACT: Richelle Takara, Division Administrator, Federal Highway Administration, 300 Ala Moana Boulevard, Box 50206, Honolulu, Hawaii 96850, Telephone: (808) 541-2700.

SUPPLEMENTARY INFORMATION: The FHWA, in cooperation with the State of Hawaii Department of Transportation (HDOT), initiated an EIS with an NOI published in the Federal Register on March 18, 2014, at 79 FR 15204. This notice revised an earlier notice for the same project published in the Federal Register on July 13, 1999, at 64 FR 37827.

The project intended to address the linkage between the Queen Kaahumanu Highway (State Highway 19) and the Mamalahoa Highway (State Highway 190) in the vicinity of the Daniel K. Inouye Highway (formerly Saddle Road [State Highway 200]). The purpose of the project was to further develop this inter-regional capacity and connectivity between the east and west regions on the island of Hawaii. The HDOT has determined continued preparation of the EIS for the Saddle Road Improvements (Project) is no longer feasible. The primary reason for this determination is the financial impact of the estimated right-of-way and construction costs of the Project. Therefore, the preparation of the EIS is being terminated.

(Catalog of Federal Domestic Assistance Program Number 20.205, Highway Planning and Construction. The regulations implementing Executive Order 12372 regarding intergovernmental consultation on Federal programs and activities apply to this program.)

Authority: 23 U.S.C. 139, 23 CFR 771, and 40 CFR 1500-1508.

Richelle Takara,
Division Administrator, Honolulu, HI.

[FR Doc. 2022-20854 Filed 9-26-22; 8:45 am]

BILLING CODE 4910-RY-P